SECURITIES AND EXCHANGE COMMISSION

17 CFR Part 242

[Release No. 34-73639A; File No. S7-01-13]

RIN 3235-AL43

Regulation Systems Compliance and Integrity; Correction

AGENCY: Securities and Exchange Commission.

ACTION: Final rule; correction.

SUMMARY: The Securities and Exchange Commission (“Commission”) is making a technical correction to its rules concerning Regulation Systems Compliance and Integrity (“Regulation SCI”) under the Securities Exchange Act of 1934 (“Exchange Act”) and conforming amendments to Regulation ATS under the Exchange Act, which applies to certain self-regulatory organizations (including registered clearing agencies), alternative trading systems (“ATSs”), plan processors, and exempt clearing agencies (collectively, “SCI entities”).

DATES: Effective December 30, 2015.

FOR FURTHER INFORMATION CONTACT: Sara Hawkins, Special Counsel, Office of Market Supervision, at (202) 551-5523 and Alexander Zozos, Attorney-Adviser, Office of Market Supervision, at (202) 551-6932, Division of Trading and Markets, Securities and Exchange Commission, 100 F Street NE., Washington, DC 20549-7010.

SUPPLEMENTARY INFORMATION: The Commission is making a technical correction to final rules that were published in the Federal Register on December 5, 2014 (79 FR 72251) as part of Regulation SCI under the Exchange Act and conforming amendments to Regulation ATS under the Exchange Act.

List of Subjects in 17 CFR 242

Brokers; Confidential business information; Reporting and recordkeeping requirements; and Securities.

Accordingly, 17 CFR Part 242 is corrected by making the following correcting amendment:

PART 242—REGULATIONS M, SHO, ATS, AC, NMS AND SCI AND CUSTOMER MARGIN REQUIREMENTS FOR SECURITY FUTURES—[CORRECTED]

1. The authority citation for Part 242 continues to read as follows:

Authority: 15 U.S.C. 77g, 77q(a), 77s(a), 78b, 78c, 78g(c)(2), 78i(a), 78j, 78k-1(c), 78l, 78m, 78n, 78o(b), 78o(c), 78o(g), 78q(a), 78q(b), 78q(h), 78w(a), 78dd-1, 78mm, 80a-23, 80a-29, and 80a-37.

§ 242.1000 [Amended]

2. Amend § 242.1000 in paragraph (3) of the definition of SCI alternative trading system or SCI ATS, by revising the phrase “until six months after satisfying any of paragraphs (a) or (b) of this section” to read “until six months after satisfying any of paragraphs (1) or (2) of this definition”.

Dated: December 22, 2015.
Brent J. Fields,
Secretary.

[FR Doc. 2015-32646 Filed 12-29-15; 8:45 am]

BILLING CODE 8011-01-P